DEPARTMENT OF HEALTH AND HUMAN SERVICES

Centers for Disease Control and Prevention (CDC)

Advisory Committee on Childhood Lead Poisoning Prevention (ACCLPP)

In accordance with section 10(a)(2) of the Federal Advisory Committee Act (Pub. L. 92-463), the CDC, National Center for Environmental Health (NCEH) announces the aforementioned committee meeting:

DATE AND TIME: January 4, 2012, 1 p.m.-3 p.m.

PLACE: The meeting will be held by teleconference. Please dial (866) 769-2045 and enter participant code 70320520.

STATUS: This meeting is open to the public, limited only by the lines available. Approximately 65 lines will be available to the public. Opportunities will be provided during the meeting for oral comments.

PURPOSE: The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

MATTERS TO BE DISCUSSED: The teleconference agenda will include an overview on the Blood Lead Level of Concern Workgroup recommendations. The committee will formally vote on whether to accept the recommendations.

Meeting materials for the public will be made available on January 3, 2012, at the following Web site:

• http://www.cdc.gov/nceh/lead/ACCLPP/activities.htm (Click on Recommendations for the Blood Lead Level of Concern Workgroup);

• Meeting materials may also be requested by calling the Healthy Homes and Lead Poisoning Prevention Branch at (770) 488-3300 or Barry Brooks at (770) 488-3641.

Agenda items are subject to change as priorities dictates.

FOR FURTHER INFORMATION CONTACT: Claudine Johnson, Program Operation Assistant, or Tiffany Turner, Public Health Advisor, Healthy Homes and Lead Poisoning Prevention Branch, Division of Environmental Emergency Health Services, NCEH, CDC, 4770 Buford Highway, NE., Mailstop F-60, Atlanta, Georgia 30341, Claudine Johnson, telephone (770) 488-3629; Tiffany Turner, telephone (770) 488-0554; fax (770) 488-3635. The Director, Management Analysis and Services Office has been delegated the authority to sign Federal Register notices pertaining to announcements of meetings and other committee management activities, for both the Centers for Disease Control and Prevention and the Agency for Toxic Substances and Disease Registry.

Dated: December 12, 2011.
Andre Tyler,
Acting Director, Management Analysis and Services Office, Centers for Disease Control and Prevention.

[FR Doc. 2011-32346 Filed 12-15-11; 8:45 am]

BILLING CODE 4163-18-P